DEPARTMENT OF AGRICULTURE

Forest Service

DEPARTMENT OF THE INTERIOR

Bureau of Land Management

Rock Creek Integrated Management Project

AGENCY: Forest Service, USDA, and Bureau of Land Management, Interior.

ACTION: Notice of intent to prepare an environmental impact statement (EIS).

SUMMARY: Between 2002 and 2003, Mountain Pine Beetle (MPB) activity in the drought-stressed Gore Pass Geographic Area increased 20-fold. A multidisciplinary, focused assessment was completed that identified the probability of a large-scale, high intensity beetle epidemic and fires that will threaten hydrologic flows, timber, wildlife habitats, developed recreation sites, administrative sites, the transportation system, heritage sites, off-site urban development, and other values. The interdisciplinary team identified potential management actions using prevention, suppression, and salvage strategies to reduce the beetle infestations and minimize adverse effects to resources.

This project is an “authorized project” under Title I of the Healthy Forests Restoration Act (HFRA). We will be using expedited procedures authorized by this act to complete project planning and decision-making. Use of this new authority requires an emphasis on collaboration with local communities and a determination that an epidemic exists by consulting with forest health specialists.

DATES: Comments concerning the scope of the analysis must be received by August 16, 2004. The draft EIS is expected December 2004 and the final EIS is expected April 2005.

ADDRESSES: You may submit comments by any of the following methods:

• Web site: http://www.fs.fed.us/r2/mbr/projects under Environmental Analysis and Forest Health. Follow the instructions for submitting comments on the Web site.

• E-mail: r2_mbr_vis@FSNOTES. Include “Rock Creek” in the subject line of the message.

• Fax: (970) 870-2284.

• Mail of Hand Delivery: Joanne Sanfilippo, Environmental Coordinator, Medicine Bow—Routt National Forests, 925 Weiss Drive, Steamboat Springs, Colorado 80487.

FOR FURTHER INFORMATION CONTACT: Joanne Sanfilippo (970-870-2210) or Andy Cadenhead (970-870-2220), Medicine Bow—Routt National Forests, 925 Weiss Drive, Steamboat Springs, Colorado 80487.

SUPPLEMENTARY INFORMATION:

Purpose and Need for Action

Insect epidemics are one of the natural processes in forested landscapes. Some uses of the forest are compromised by tree mortality resulting from insect attacks. Recreation, wood product production, scenery, wildlife habitats and water resources are all adversely affected by large scale insect epidemics and the subsequent increased risk of these areas to large high intensity wildlife.

The purpose of the Proposed Action is to reduce the size and intensity of an existing and imminent MPB epidemic, and to reduce the future risk of large-scale high intensity wildfires within the Rock Creek Analysis Area.

There is a need to:

1. Reduce the susceptibility of the lodgepole stands within the analysis area to MPB mortality,

2. Actively suppress the ongoing MPB epidemic to limit mature tree mortality,

3. Salvage and reforest areas quickly after the MPB mortality,

4. Relocate and/or decommission segments of the road system that are likely to cause adverse impacts to stream networks,

5. Reduce fuel loading associated with beetle killed trees,

6. Create defensible fire zones around the Lynx and Gore Pass areas,

7. Reduce anticipated mature tree mortality in Threatened, Endangered, and Sensitive wildlife species habitats.

Proposed Action

Prevention methods identified involve spraying, forest thinning, and creating changes to existing stand tree species and age distributions. Suppression techniques involve removing, burning, or peeling beetle-infested trees; along with the use of pheromones to redirect beetles into or out of specific areas. Salvage actions are intended to capture the value of dead and dying trees, to remove mistletoe-infested trees to protect stand regeneration, and to reduce concentrations of dead and dying trees that increase the potential for large-scale high intensity fires. Road construction is needed to provide access to treatment areas outside of roadless areas. Road repair and decommissioning will correct existing or anticipated erosion and water flow problems likely exacerbated by increased water flows resulting from beetle-induced tree mortality.

Lead and Cooperating Agencies

The Medicine Bow—Routt National Forests is the lead agency. The Glenwood Springs Field Office of the Bureau of Land Management is the cooperating agency for the Rock Creek Integrated Management Project.

Responsible Official

The responsible officials are Mary Peterson, Forest Supervisor, Medicine Bow—Routt National Forests, 2468 Jackson Street, Laramie, Wyoming 82070-6535 and Jamie Connell, Area Manager, Glenwood Springs Field Office, 50629 Hwys 6 & 24, P.O. Box 1009, Glenwood Springs, CO 81602.

Nature of Decision To Be Made

The decision will be whether to treat timberstands affected by or likely to be affected by the MPB epidemic. If the decision is to treat timberstands, the type, distribution, and priority of treatments is decided with consideration for resource protection for watersheds, recreation and administrative sites, scenery, and wildlife habitat.

Scoping Process

The Forest Service has listed the project in the Schedule of Proposed Actions that is posted on the Web and mailed to parties interested in Medicine Bow—Routt National Forests projects. A scoping letter describing the project has been mailed to interested parties. The Forest Service will also respond to information requests about the project and hold open house public meetings and field trips.

Electronic Access and Filing

All future documents and information on the Rock Creek Integrated Management Project will be posted at www.fs.fed.us/r2/mbr/projects under “Forest Health.” You may submit comments and data by sending electronic mail (E-mail) to r2_mbr_mvis@FSNOTES and including “Rock Creek” in the subject line of the message.

When submitting comments please include your full name and address. Submit comments in Microsoft Word 2000 file format or as an ASCII file avoiding the use of special characters and any form of encryption.

Comment Requested

This notice of intent is part of the scoping process which guides the development of the EIS.

Early Notice of Importance of Public Participation in Subsequent Environmental Review

A draft EIS will be prepared for comment. The comment period on the draft EIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions [Vermont Yankee Nuclear Power Corp. v. NRDC, 435 U.S. 519, 553 (1978)]. Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection. (Authority: 40 CFR 1501.7 and 1508.22; Forest Service Handbook 1909.15, Section 21).

Healthy Forests Restoration Act Predecisional Review (Objection) Process

HFRA [Section 105(a)] replaces the USDA Forest Service's administrative appeals process with an objection process that occurs before the decision approving authorized fuel-reduction projects under the act. Participation in the predecisional review process is limited to individuals and organizations who have submitted specific written comments related to the proposed authorized hazardous-fuel-reduction project during the opportunity for public comment provided when an environmental (EA) or EIS is being prepared for the project [Section 105(a)(3), 36 CFR 218.6].

Written objections, including any attachments, must be filed with the reviewing officer within 30 days after the publication date of the legal notice of the EA or final EIS in the newspaper of record [Section 218.4(b)]. It is the responsibility of the objectors to ensure that their objection is received in a timely manner.

Dated: June 3, 2004.
Mary H. Peterson,
Forest Supervisor, Medicine Bow-Routt National Forests, USDA Forest Service.
Dated: June 14, 2004.
Jamie Connell,
Area Manager, Glenwood Springs Field Office, USDI Bureau of Land Management.

[FR Doc. 04-14841 Filed 6-29-04; 8:45 am]

BILLING CODE 3410-11-M